DEPARTMENT OF ENERGY

Federal Energy Regulatory Commission

[Project No. 13320-000]

Mississippi L&D #25 Hydro, LLC; Notice of Preliminary Permit Application Accepted for Filing and Soliciting Comments, Motions To Intervene and Competing Applications

February 4, 2009.

On November 3, 2008, Mississippi L&D #25 Hydro, LLC filed an application, pursuant to section 4(f) of the Federal Power Act (FPA), proposing to study the feasibility of the Mississippi River Lock & Dam 25 Project to be located in Lincoln County, Missouri and Calhoun County, Illinois. The proposed project would utilize the existing U.S. Army Corps of Engineers Lock and Dam 25 on the Mississippi River.

The proposed project would consist of: (1) A powerhouse containing 4 turbine/generator units with a total installed capacity of 80.4 MW; (2) a 6.8 mile long, 34.5 kV transmission line and; (3) appurtenant facilities. The proposed project would have an annual production of 403 GWh which would be sold to a local utility.

Applicant Contact: Brent L. Smith, P.O. Box 535, Rigby, Idaho 83442; (208) 745-0834.

FERC Contact: Steven Sachs (202) 502-8666.

Deadline for filing comments, motions to intervene, competing applications (without notices of intent), or notices of intent to file competing applications: 60 days from the issuance of this notice.

Comments, motions to intervene, notices of intent and competing applications may be filed electronically via the internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426.

For more information on how to submit these types of filings please go to the Commission's Web site located at http://www.ferc.gov/filing-comments.asp. More information about this project can be viewed or printed on the “eLibrary” link of the Commission's Web site at http://www.ferc.gov/docs-filing/elibrary.asp. Enter the docket number (P-13320) in the docket number field to access the document. For assistance, call toll-free 1-866-208-3372.

Kimberly D. Bose,
Secretary.

[FR Doc. E9-2873 Filed 2-10-09; 8:45 am]

BILLING CODE 6717-01-P